DEPARTMENT OF JUSTICE

Drug Enforcement Administration

[Docket No. DEA-583]

Bulk Manufacturer of Controlled Substances Application: Siemens Healthcare Diagnostics Inc.

ACTION: Notice of application.

DATES: Registered bulk manufacturers of the affected basic classes, and applicants therefore, may file written comments on or objections to the issuance of the proposed registration on or before May 11, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on December 10, 2019, Siemens Healthcare Diagnostics Inc., 100 GBC Drive, Mailstop 514, Newark, Delaware 19702-2461 applied to be registered as a bulk manufacturer of the following basic classes of controlled substances:

Controlled substance | Drug code | Schedule
Ecgonine | 9180 | II

The company plans to produce the listed controlled substance in bulk to be used in the manufacture of DEA exempt products.

Dated: February 11, 2020.
William T. McDermott,
Assistant Administrator.

[FR Doc. 2020-04832 Filed 3-9-20; 8:45 am]

BILLING CODE 4410-09-P